DEPARTMENT OF AGRICULTURE

Agricultural Marketing Service

7 CFR Part 905

[Docket No. FV02-905-1C]

Oranges, Grapefruit, Tangerines, and Tangelos Grown in Florida; Continuance Referendum; Correction

AGENCY: Agricultural Marketing Service, USDA.

ACTION: Referendum order; correction.

SUMMARY: The Agricultural Marketing Service published in the Federal Register on March 14, 2002, a Referendum Order to conduct a continuance referendum for marketing agreement and order 905. This document corrects the ballot postmark deadline date, changing it from May 6, 2002 to April 26, 2002 in the SUPPLEMENTARY INFORMATION section of the Notice.

FOR FURTHER INFORMATION CONTACT: Melissa Schmaedick, Marketing Specialist, Marketing Order Administration Branch, Fruit and Vegetable Programs; Agricultural Marketing Service, Department of Agriculture, 1400 Independence Avenue, SW STOP 0237, Washington, DC 20250-0237; telephone: (202) 720-2491, or Fax: (202) 720-8938.

SUPPLEMENTARY INFORMATION:

Background

The referendum order that is the subject of this correction provides that a referendum be conducted among eligible producers of Florida citrus to determine whether they favor continuance of the marketing order regulating the handling of oranges, grapefruit, tangerines, and tangelos grown in the production area.

Need for Correction

As published, the ballot postmark deadline date in the SUPPLEMENTARY INFORMATION section is incorrect. The ballot postmark deadline date needs to be changed from May 6, 2002 to April 26, the ending date of the referendum period.

Correction of Publication

The publication of the referendum order (Docket No. FV02-905-1), which was the subject of FR Doc. 02-6108 published on March 14, 2002 (67 FR 11450) is corrected as follows:

On page 11450, column two, under SUPPLEMENTARY INFORMATION, the date “May 6, 2002” for ballots to be postmarked by is corrected to read “April 26, 2002.”

Authority:

7 U.S.C. 601-674.

Dated: March 27, 2002.
A.J. Yates,
Administrator, Agricultural Marketing Service.

[FR Doc. 02-7905 Filed 3-28-02; 12:04 pm]

BILLING CODE 3410-02-P